DEPARTMENT OF DEFENSE

Department of the Air Force

[Docket ID: USAF-2009-0018]

32 CFR Part 806b

Privacy Act; Implementation

AGENCY: Department of the Air Force, DoD.

ACTION: Proposed rule with request for comments; withdrawal.

SUMMARY: The Department of Defense in withdrawing the proposed rule published on October 29, 2009 (74 FR 55796-55797), which proposed to update the Department of Air Force Privacy Act Program Rules, 32 CFR part 806b, by adding the (k)(1) thru (k)(7) exemptions for their Freedom of Information Appeal Records.

FOR FURTHER INFORMATION CONTACT: Patricia Toppings, 703-696-5284.

Dated: November 2, 2009.
Patricia L. Toppings,
OSD Federal Register Liaison Officer, Department of Defense.

[FR Doc. E9-26745 Filed 11-5-09; 8:45 am]

BILLING CODE 5001-06-P